DEPARTMENT OF AGRICULTURE

Rural Utilities Service

RIN 0572-ZA01

Broadband Initiatives Program

AGENCY: Rural Utilities Service, Department of Agriculture.

ACTION: Notice of Extension of Application Window for Notice of Funds Availability (NOFA) and solicitation of applications.

SUMMARY: On January 24, 2010, the Rural Utilities Service (RUS) announced a second round funding Notice of Funds Availability (NOFA) for the Broadband Initiatives Program (BIP) in the Federal Register at 75 FR 3820. The closing date for submission of applications was announced as March 15, 2010, at 5 p.m. Eastern Time (ET). In response to requests by a wide variety of stakeholders, RUS is extending the application window for applications under the second round NOFA until March 29, 2010 at 5 p.m. ET.

Contact Information: For general inquiries regarding BIP, contact David J. Villano, Assistant Administrator Telecommunications Program, Rural Utilities Service, U.S. Department of Agriculture (USDA), e-mail: bip@wdc.usda.gov, telephone: (202) 690-0525. For inquiries regarding BIP compliance requirements, including applicable federal rules and regulations protecting against fraud, waste and abuse, contact bipcompliance@wdc.usda.gov for BIP. You may obtain additional information regarding applications for BIP via the Internet at www.broadbandusa.gov.

Dated: March 2, 2010.
Jonathan Adelstein,
Administrator, Rural Utilities Service.

[FR Doc. 2010-4780 Filed 3-5-10; 8:45 am]

BILLING CODE P